DEPARTMENT OF ENERGY

Federal Energy Regulatory Commission

[Docket No. RP97-81-012]

Kinder Morgan Interstate Gas Transmission LLC; Notice of Tariff Filing

May 24, 2002.

Take notice that on May 10, 2002, Kinder Morgan Interstate Gas Transmission LLC (KMIGT) tendered for filing an original and six copies of the following tariff sheets, to be effective June 1, 2002:

Fourth Revised Volume No. 1-A

Sixth Revised Sheet No. 4G

Second Revised Sheet No. 4I

The above-referenced tariff sheets reflect a negotiated rate contract effective June 1, 2002. The tariff sheets are being filed pursuant to Section 36 of KMIGT's FERC Gas Tariff Fourth Revised Volume No. 1-A, and the procedures prescribed by the Commission in its December 31, 1996 “Order Accepting Tariff Filing Subject to Conditions”, in Docket No. RP97-81 (77 FERC ¶ 61,350) and the Commission's Letter Orders dated March 28, 1997 and November 30, 2000 in Docket Nos. RP97-81-001, and RP01-70-000, respectively.

KMIGT states that a copy of this filing has been served upon all parties to this proceeding, KMIGT's customers and affected state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13671 Filed 5-30-02; 8:45 am]

BILLING CODE 6717-01-P